DEPARTMENT OF THE INTERIOR

National Park Service

Notice of Inventory Completion: San Francisco State University, San Francisco, CA

AGENCY: National Park Service, Interior.

ACTION: Notice.

Notice is here given in accordance with the Native American Graves Protection and Repatriation Act (NAGPRA), 25 U.S.C. 3003, of the completion of an inventory of human remains in the control of San Francisco State University, San Francisco, CA. The human remains were removed from an unknown site in Siskiyou County, CA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by San Francisco State University professional staff in consultation with representatives of the Klamath Tribes, Oregon (formerly the Klamath Indian Tribe of Oregon).

On an unknown date, human remains representing a minimum of one individual were removed from an unknown site (Ca-Sis-UNK) in Siskiyou County, CA. No known individual was identified. No associated funerary objects are present.

The human remains were inside a box marked “Siskiyou Co.; No Site No.; Ft. Jones; Box 1 of 1,” indicating removal from a Native American archeological site near the town of Fort Jones which is located in Siskiyou County, CA. In addition, the human remains were determined to be Native American based on the morphology of the zygomatics and a shoveled incisor. Based on ethnography and consultation with Klamath Tribes, Oregon it has been determined that Siskiyou County is within the historically documented territory of the Klamath and Modoc tribes. Descendants of the Klamath and Modoc are members of the Klamath Tribes, Oregon and Modoc Tribe of Oklahoma. The Klamath Tribes, Oregon have taken the lead on repatriation of Native American human remains from the area described above that are culturally affiliated with the Klamath and Modoc, and have claimed the human remains from site Ca-Sis-UNK.

Officials of San Francisco State University have determined that, pursuant to 25 U.S.C. 3001 (9-10), the human remains described above represent the physical remains of one individual of Native American ancestry. Officials of San Francisco State University also have determined that, pursuant to 25 U.S.C. 3001 (2), there is a relationship of shared group identity that can be reasonably traced between the Native American human remains and the Klamath Tribes, Oregon and Modoc Tribe of Oklahoma.

Representatives of any other Indian tribe that believes itself to be culturally affiliated with the human remains should contact Jeff Fentress, NAGPRA Coordinator, Department of Anthropology, San Francisco State University, 1600 Holloway Ave., San Francisco, CA 95132, telephone (415) 338-3075, before June 8, 2009. Repatriation of the human remains to the Klamath Tribes, Oregon may proceed after that date if no additional claimants come forward.

San Francisco State University is responsible for notifying the Klamath Tribes, Oregon, and the Shasta Nation, a non-Federally recognized Indian group, that this notice has been published.

Dated: April 3, 2009.
Sherry Hutt,
Manager, National NAGPRA Program.

[FR Doc. E9-10540 Filed 5-6-09; 8:45 am]

BILLING CODE 4312-50-S